DEPARTMENT OF ENERGY

Federal Energy Regulatory Commission

[Docket No. IC14-12-000]

Commission Information Collection Activities (FERC-523); Comment Request; Extension

AGENCY: Federal Energy Regulatory Commission, DOE.

ACTION: Notice of information collection and request for comments.

SUMMARY: In compliance with the requirements of the Paperwork Reduction Act of 1995, 44 USC 3506(c)(2)(A), the Federal Energy Regulatory Commission (Commission or FERC) is soliciting public comment on the currently approved information collection, FERC-523, Applications for Authorization for Issuance of Securities or the Assumption of Liabilities.

Note: This 60-day notice is correcting an erroneous burden estimate that was published in the Federal Register on 5/14/2014 (79 FR 27589). That published notice contained data concerning two other FERC collections: FERC Form 2 (OMB Control No. 1902-0028) and FERC Form 2A (OMB Control No. 1902-0030). These collections are also being renewed, but they are completely unrelated to the FERC-523. The burden estimations for the FERC Form 2 and Form 2A are unaffected by this notice. Please see the Estimate of Annual Burden section below for the corrected burden estimate for FERC-523. Comments for all three collections will be due by the date listed in this notice.

DATES: Comments on the collections of information are due July 28, 2014.

ADDRESSES: You may submit comments (identified by Docket No. IC14-12-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: Applications for Authorization for Issuance of Securities or the Assumption of Liabilities

OMB Control No.: 1902-0082.

Type of Request: Three-year extension of the FERC-523 information collection requirements with no changes to the current reporting requirements.

Abstract: Under Federal Power Act (FPA) section 204, 16 U.S.C. 824c, no public utility or licensee shall issue any security, or assume any obligation or liability as guarantor, endorser, surety, or otherwise in respect of any security of another person, until the public utility applies for and receives Commission approval by order authorizing the issue or assumption of the liability. The Commission issues an order if it finds that such issue or assumption (a) is for lawful object, within the corporate purposes of the applicant and compatible with the public interest, which is necessary or appropriate for or consistent with the proper performance by the applicant as a public utility, and which will not impair its ability to perform that service, and (b) is reasonably necessary or appropriate for such purposes.

The Commission uses the information contained in filings to determine its acceptance and/or rejection of applications for authorization to either issue securities or to assume an obligation or liability by the public utilities and their licensees who submit these applications.

The specific application requirements and filing format are found at 18 CFR Part 34; and 18 CFR 131.43 and 131.50. The information is filed electronically.

Type of Respondents: Public utilities subject to the FPA.

Estimate of Annual Burden: ¹ The Commission estimates the annual public reporting burden for the information collection as:

¹ The Commission defines burden as the total time, effort, or financial resources expended by persons to generate, maintain, retain, or disclose or provide information to or for a Federal agency. For further explanation of what is included in the information collection burden, reference 5 Code of Federal Regulations 1320.3.

FERC-523—Applications for Authorization for Issuance of Securities or the Assumption of Liabilities
| Number of respondents | Annual number of responses per respondent | Total number of responses | Average burden & cost per response ² | Total annual burden hours & total annual cost | Cost per respondent ($)
| (1) | (2) | (1)*(2)=(3) | (4) | (3)*(4)=(5) | (5)÷(1)
FERC-523 | 56 | 1 | 56 | 70 | 3,920 | $4,935
|  |  |  | $4,935 | $276,360 |

² The estimates for cost per response are derived using the following formula: Average Burden Hours per Response * $70.50 per Hour = Average Cost per Response. The hourly cost figure of $70.50 is the average FERC employee wage plus benefits. We assume that respondents earn at a similar rate.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 19, 2014.
Kimberly D. Bose,
Secretary.

[FR Doc. 2014-12194 Filed 5-27-14; 8:45 am]

BILLING CODE 6717-01-P